FEDERAL ELECTION COMMISSION

Sunshine Act Meetings

FEDERAL REGISTER CITATION NOTICE OF PREVIOUS ANNOUNCEMENT: 82 FR 52902.

PREVIOUSLY ANNOUNCED TIME AND DATE OF THE MEETING: Thursday, November 16, 2017 at 10:00 a.m.

CHANGES IN THE MEETING: The Following Matter Was Also Considered: REG 2011-02 (Internet Communication Disclaimers).

CONTACT PERSON FOR MORE INFORMATION: Judith Ingram, Press Officer, Telephone: (202) 694-1220.

Dayna C. Brown,
Secretary and Clerk of the Commission.

[FR Doc. 2017-25179 Filed 11-16-17; 4:15 pm]

BILLING CODE 6715-01-P